DEPARTMENT OF THE INTERIOR

Fish and Wildlife Service

[FWS-R8-ES-2011-N021; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before March 7, 2011.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-31042A

Applicant: Texas A&M University, Corpus Christi, Texas.

The applicant requests a permit to take (trap, seine, capture, handle, fin clip, release, collect, transport, and captive breed) the Owens tui chub (Siphateles bicolor snyderi) in conjunction with surveys, genetic research, and captive breeding experiments in Inyo and Mono Counties, California, for the purpose of enhancing its survival.

Permit No. TE-30656A

Applicant: James E. Berrian, San Diego, California.

The applicant requests a permit to take (survey by pursuit) the Quino checkerspot butterfly (Euphydryas editha quino) in conjunction with surveys throughout the range of the species in California for the purpose of enhancing its survival.

Permit No. TE-30659A

Applicant: Creekside Center for Earth Observation, Menlo Park, California.

The applicant requests a permit to take (survey, capture, handle, collect, translocate, and release) the Mission Blue butterfly (Icaricia icarioides missionensis) in conjunction with translocation activities from San Bruno Mountain, San Mateo County, to Twin Peaks Natural Area, San Francisco County, California, for the purpose of enhancing its survival.

Permit No. TE-233367

Applicant: Laura E. Gorman, Redondo Beach, California.

The applicant requests an amendment to an existing permit (December 16, 2009, 74 FR 66668) to take (harass by survey) the southwestern willow flycatcher (Empidonax traillii extimus) in conjunction with surveys and population monitoring activities throughout the range of the species in California and Nevada for the purpose of enhancing its survival.

Permit No. TE-31406A

Applicant: California State Parks, Channel Coast District, Ventura, California.

The applicant requests a permit to take (survey, locate and monitor nests, install fence, population monitor, and collect carcasses) the California least tern (Sterna antillarum browni) in conjunction with surveys and population monitoring activities at the McGrath State Beach and Mandalay State Beach, Ventura County, California, for the purpose of enhancing its survival.

Permit No. TE-798003

Applicant: North State Resources, Redding, California.

The applicant requests an amendment to an existing permit (February 22, 2000, 65 FR 8731) to take (survey, capture, handle and release) the California tiger salamander (Ambystoma californiense) in conjunction with surveys throughout the range of the species in California for the purpose of enhancing its survival.

Permit No. TE-32399A

Applicant: Judson D. Sechrist, Denver, Colorado.

The applicant requests a permit to take (capture, handle, collect, transport, and kill) the Lost River sucker (Deltistes luxatus) and the shortnose sucker (Chasmistes brevirostris) in conjunction with research, entrainment minimization studies, and testing effectiveness of non-physical fish barriers in Klamath County, Oregon, for the purpose of enhancing their survival.

Permit No. TE-170381

Applicant: William F. Stagnaro, San Francisco, California.

The applicant requests an amendment to an existing permit (December 16, 2009, 74 FR 66668) to take (collect tissue samples) the California tiger salamander (Ambystoma californiense) in conjunction with genetic studies throughout the range of the species in California for the purpose of enhancing its survival.

We invite public review and comment on each of these recovery permit applications. Comments and materials we receive will be available for public inspection, by appointment, during normal business hours at the address listed in the ADDRESSES section of this notice.

Michael Long,
Acting Regional Director, Region 8, Sacramento, California.

[FR Doc. 2011-2425 Filed 2-3-11; 8:45 am]

BILLING CODE 4310-55-P